DEPARTMENT OF TRANSPORTATION

Federal Aviation Administration

[Docket No. FAA-2019-0847]

Period of Public Comment for the FAA Aviation Maintenance Technical Workers Workforce Development Grant Program Is Open for 15 Days

AGENCY: Federal Aviation Administration (FAA), Transportation (DOT).

ACTION: Period of public comment for the FAA Aviation Maintenance Technical Workers Workforce Development Grant Program is open for 15 days.

SUMMARY: The FAA announces a Period of Public Comment for the Aviation Maintenance Technical Workers Workforce Development Grant Program and previews a forthcoming notice of funding opportunity.

DATES: Written comments should be submitted by September 23, 2020.

ADDRESSES: Please send written comments:

By Electronic Docket: www.regulations.gov (Enter docket number into search field).

SUPPLEMENTARY INFORMATION: Assistance Listing Number: 20.112, www.beta.sam.gov.

Note: This is not a request for proposals or offers.

Background

On October 5, 2018, the President signed the FAA Reauthorization Act of 2018 (the Act) (Pub. L. 115-254). Section 625 of the Act addresses the projected shortage of aviation maintenance technical workers in the aviation industry by directing the establishment of an Aviation Maintenance Technical Workers Workforce Development Grant Program. Congress authorized the program through the end of Fiscal Year 2023.

Authorizing Legislation

FAA Reauthorization Act of 2018 (Pub. L. 115-254, Section 625).

Funding

Congress appropriated $5,000,000 of funding for the program in Fiscal Year 2020 budget and capped each approved project to be not more than $500,000 for any one grant in any one fiscal year.

Types of Projects

The types of projects supported under the new Aviation Maintenance Technical Workers Workforce Development Grant Program are those that:

(a) Establish new educational programs that teach technical skills used in aviation maintenance, including purchasing equipment, or improve existing such programs;

(b) enhance aviation maintenance technical education or the aviation maintenance industry workforce;

(c) establish scholarships or apprenticeships for individuals pursuing employment in the aviation maintenance industry;

(d) support outreach about careers in the aviation maintenance industry to primary, secondary, and post-secondary school students or to communities under-represented in the industry;

(e) support transition to careers in aviation maintenance, including for members of the Armed Forces; or

(f) support educational opportunities related to aviation maintenance in economically disadvantaged geographic areas.

Eligible Applicants

Section 625 of the Act identifies the following types of entities as eligible to apply for the Aviation Maintenance Technical Workers Workforce Development Grants:

(a) Holders of a certificate issued under 14 CFR parts 21, 121, 135, or 145, or labor organizations representing aviation maintenance workers;

(b) accredited institutions of higher education (as defined in 20 U.S.C. 1001), or high schools or secondary schools (as defined in 20 U.S.C. 7801); or

(c) state or local governmental entities.

Notice of Funding Opportunity (NOFO) Information

Targeted Release Date

The FAA anticipates releasing an initial Notice of Funding Opportunity (NOFO) on www.grants.gov on or about November 13, 2020. The FAA envisions thereafter releasing NOFOs each year for which funding has been appropriated. The FAA anticipates all NOFOs will remain open for 60 days.

Notice of Intent To Apply

NOFOs may ask for applicants to email the FAA with their Intent to Apply for a grant within ten days of NOFO release. Submission of Intent to Apply will not be mandatory.

Unexpended Funds

If all funds are not expended in an award cycle for each fiscal year, the FAA may make additional awards from a previous pool of applications.

Grants.Gov

The FAA will release NOFOs on www.grants.gov and intends to accept only electronic applications. Potential applicants are encouraged to create accounts on www.grants.gov and can review samples of forms by following this link: https://www.grants.gov/web/grants/forms/sf-424-family.html.

Application Package

Application packages will be accepted electronically on www.grants.gov up to 11:59 p.m. prevailing Eastern Time of the closing date. Late submissions will not be accepted or reviewed. The application package may consist of completed standard government Financial Assistance Application forms such as those listed below:

• Application for Federal Assistance (SF 424)

• Budget Information for Non-Construction Programs (SF-424A)

• Assurances for Non-Construction Programs (SF-424B—Mandatory)

• SF-425 Federal Financial Report 4040-0014 and SF-425A Federal Financial Report Attachment

• Disclosure of Lobbying Activities and Certification (SF-LLL)

• Project/Performance Site Location(s), Key Contacts, and Project Abstract

• Project Abstract Summary

• ACH Vendor Payment Enrollment (SF-3881)

Proof of Eligibility

Applicants will be required to upload proof of eligibility to apply for the grants such as copies of accreditations and certifications. The FAA reserves the right to validate proof of eligibility.

Award Floor and Ceiling

The FAA may issue awards of between $25,000 and not more than $500,000 (the ceiling established in the Act) for any one grant in any one fiscal year.

Number of Awards

This grant program is competitive. The FAA reserves the right to make grant awards depending on the quantity and quality of proposals received in response to the NOFO. The expectation is to fund a minimum of 10 proposals.

Period of Performance

The FAA anticipates that the period of performance of each grant will be 12 to 18 months from the effective date of the grant award.

Funding Restrictions

• The FAA will not reimburse pre-award costs or application preparation costs under the proposed award.

• The FAA will not reimburse for facility construction or research activities.

• The FAA may cap the use of the grant funds for Indirect and Administrative Costs to 5% of the total award.

Matching Requirements

The FAA Aviation Workforce Development Grant Programs enabling legislation does not require matching contributions in this program.

Partnerships

Individual entities, teams, and new providers are eligible to apply for a grant. The FAA encourages applicants to partner with others as appropriate to: satisfy Congressional intent and meet the requirements of this selection criteria; reach and include students and educators in various geographic and economic areas; and to help the applicant provide additional opportunities, assistance, and resources to ensure success and sustainability.

Application Review Information

FAA Subject Matter Experts will serve on teams to provide a Technical, and a Management and Fiscal Evaluation. The Technical Evaluation Team will review applications and rank proposals based upon merit criteria similar to the examples below. The Management and Fiscal Reviewers will review financial aspects of the proposal including the budget and supporting narrative, plans to administer and oversee activities, assessment processes and tools. Incorrect, missing documents/items, or incomplete applications will be grounds for rejecting the application. Applications should address each criterion. Late submissions will not be considered.

Examples of Potential Merit Criteria

Criterion 1

The extent to which the applicant can encourage, increase interest, recruit students, and deliver programs to a diverse population including those in economically disadvantaged geographic areas and those under-represented in the aviation maintenance field. The applicant should demonstrate the following:

• Outreach and recruitment efforts to encourage aviation maintenance careers for students in primary, secondary and/or post-secondary schools, or in communities under- represented in the industry, and facilitate the transition to careers in aviation maintenance to include members of the Armed Forces.

• The role of individuals, entities or organizations participating in the proposed activities; provide letters of commitment by each participant.

• The extent to which the applicant is prepared to create, adapt, or improve programs designed to generate and increase interest in aviation maintenance careers. Provide activities participants will undertake to prepare for and transition into aviation maintenance careers.

• An ability to provide education and training activities to enhance career awareness and understanding of the aviation maintenance industry. Include vocational and other programs presented in the past through various methods. Include the size and scope of the program anticipated.

• Plans to improve existing or establish new educational programs that teach appropriate technical skills and describe how the activities will serve to enhance and prepare the future aviation maintenance workforce. Include potential scholarship and/or apprenticeship opportunities to attract those who may pursue employment in the aviation maintenance industry.

Criterion 2

Resources available to the applicant to carry out this project. The applicant should demonstrate the following:

• Ability to provide the necessary resources and facilities and carry out activities to support the program overall.

• Plans to provide maintenance career preparation and related activities using multiple methods.

• Other resources.

Criterion 3

Ability to design and disseminate program information. Include a plan to provide aviation maintenance workforce development programs to a diverse population including those in economically disadvantaged geographic areas and those under-represented in the aviation maintenance field, with a continuing education component. Include a plan to attract potential participants transitioning into the field. The applicant should demonstrate the following:

• Ability to conduct courses, seminars, workshops, vocational or other activities related to aviation maintenance careers.

• Facilities, equipment, and resources available to provide for: student recruitment; academic and career counseling and mentoring; and general information dissemination activities.

• Outreach plans to include students in primary, secondary, and post-secondary schools or communities under-represented in the industry and those transition from the Armed Forces.

Criterion 4

Ability to effectively administer the proposed activities. The FAA is interested in a disciplined administrative and strategic project plan. Include an approach to efficiently control administrative expenses while effectively allocating resources between projects designed to optimize career awareness and prepare students to enter aviation maintenance careers. The applicant should demonstrate the following:

• Provide a plan describing how the applicant will organize and oversee individual activities and manage the various tasks.

• Describe how the applicant will evaluate activities and meet, develop, adapt or expand performance goals.

• Indicate the entity prepared to serve as the lead for administrative purposes and describe the responsibilities to be undertaken, should a team propose.

• Provide a proposed budget including necessary equipment to be purchased to achieve program goals with a supporting narrative.

Industry Consultation

Prior to selecting among competing applications, the Secretary shall consult with representatives from aircraft repair stations, design and production approval holders, air carriers, labor organizations, business aviation, general aviation, educational institutions, and other relevant aviation sectors. Therefore, the FAA is assuming this responsibility by providing stakeholders and the public an opportunity to review this preliminary plan to establish the Aviation Workforce Development Grant Programs.

Financial Review

The FAA will perform an assessment of risk posed by the applicant prior to issuing awards. The assessment includes evaluating previous Federal grant experiences, financial stability, and potential for conflicts of interest. The applicant will be asked to submit a copy of its most recent Cognizant Auditing Agency Report and remedies to all findings. Any potential applicants with previous disbarments or suspensions will be disqualified.

Unique Identifier or System of Award

The applicant is required to: (i) Be registered in www.SAM.gov before submitting its application; (ii) provide a valid unique entity identifier in its application; and (iii) continue to maintain an active SAM registration with current information at all times during which it has an active Federal award or an application or plan under consideration by a Federal awarding agency.

The Federal awarding agency may not make a Federal award to an applicant until the applicant has complied with all applicable unique identifier and SAM requirements. If an applicant has not fully complied with the requirements by the time of the Federal awarding agency is ready to make a Federal award, the Federal awarding agency may determine that the applicant is not sufficiently prepared or is not qualified to receive a Federal award.

Degree of Federal Involvement

The FAA may conduct site visits of applicant institutions and facilities to observe curriculum delivery, and review relevant materials including books, records, activity plans, relevant documents, accounting procedures, processes, and related activities and resources. The FAA will require semi-annual progress reports and final reports.

Federal Assistance Program Law

The FAA will adhere to all Guidelines for Federal Assistance Programs outlined in the Uniform Administrative Requirements, Cost Principles, and Audit Requirements for Federal Awards. To review the 2 CFR 200, please visit: https://www.ecfr.gov/cgi-bin/text-idx?tpl=/ecfrbrowse/Title02/2cfr200_main_02.tpl.

Note: This is not a request for proposals or offers.

FOR FURTHER INFORMATION: Please visit our website at: www.faa.gov/go/awd or https://www.faa.gov/about/office_org/headquarters_offices/ang/grants/awd/.

Issued in Washington DC, on September 2, 2020.
Patricia A Watts,
Grants Officer, Aviation Workforce Development Grant Programs, NextGen Grants Management Branch (ANG-A19).

[FR Doc. 2020-19812 Filed 9-4-20; 8:45 am]

BILLING CODE 4910-13-P